ARCHITECTURAL AND TRANSPORTATION BARRIERS COMPLIANCE BOARD

36 CFR Parts 1193 and 1194

RIN 3014-AA22

Telecommunications Act Accessibility Guidelines; Electronic and Information Technology Accessibility Standards

AGENCY: Architectural and Transportation Barriers Compliance Board.

ACTION: Notice of meeting.

SUMMARY: The Architectural and Transportation Barriers Compliance Board (Access Board) has established a Telecommunications and Electronic and Information Technology Advisory Committee (Committee) to assist it in revising and updating accessibility guidelines for telecommunications products and accessibility standards for electronic and information technology. This notice announces the dates, times, and location of six upcoming meetings of the committee, five of which will be held as conference calls, one of which will be an in-person meeting.

DATES: The conference calls are scheduled for November 20, November 27, December 4, December 11, and December 18, 2007 (beginning at 1 p.m. and ending at 3 p.m. Eastern time each day). The in-person meeting will take place on November 13-16, 2007 (beginning at 12 p.m. and ending at 6 p.m. on November 13; beginning at 9 a.m. and ending at 5 p.m. on November 14 and 15; and, beginning at 9 a.m. and ending at 2 p.m. on November 16).

ADDRESSES: Individuals can participate in the conference calls on November 20, November 27, December 4, December 11 and December 18, 2007 by dialing into the teleconference numbers which will be posted on the Access Board's web site at: http://www.access-board.gov/sec508/update-index.htm. The in-person meeting on November 13-16, 2007 will be held at the National Science Foundation. All attendees should go to 4201 Wilson Boulevard, Arlington, VA 22230, to pick up security passes and then go to 4121 Wilson Boulevard, Stafford Place II, Room 555, Arlington, VA 22230 for the meeting.

FOR FURTHER INFORMATION CONTACT: Timothy Creagan, Office of Technical and Information Services, Architectural and Transportation Barriers Compliance Board, 1331 F Street, NW., suite 1000, Washington, DC 20004-1111. Telephone number: 202-272-0016 (Voice); 202-272-0082 (TTY). Electronic mail address: creagan@access-board.gov.

SUPPLEMENTARY INFORMATION: The Architectural and Transportation Barriers Compliance Board (Access Board) established the Telecommunications and Electronic and Information Technology Advisory Committee (Committee) to assist it in revising and updating accessibility guidelines for telecommunications products and accessibility standards for electronic and information technology. The next in-person committee meeting will take place November 13-16, 2007 (beginning at 12 p.m. and ending at 6 p.m. on November 13; beginning at 9 a.m. and ending at 5 p.m. on November 14 and 15; and, beginning at 9 a.m. and ending at 2 p.m. on November 16). The teleconference meetings on November 20, November 27, December 4, December 11, and December 18, 2007 will be from 1 p.m. to 3 p.m. Eastern time).

The meetings will focus on outstanding issues, particularly those identified in “minority reports” submitted to the committee by some members. The agendas, instructions (including information on captioning), and dial in telephone numbers for the in-person meeting, as well as for the teleconferences are available at http://www.access-board.gov/sec508/update-index.htm. Notices of future meetings will be published in the Federal Register.

The committee may cancel any one of the teleconferences before they are scheduled to take place, depending on the needs of the committee and their progress in discussing and resolving outstanding issues. Any notices of cancellation of any of these teleconferences will be posted at: http://www.access-board.gov/sec508/update-index.htm.

The conference calls are open to the public and interested persons can dial into the teleconferences and communicate their views. Members of the public will have opportunities to address the committee on issues of interest to them and the committee during public comment periods scheduled during each conference call. Participants may call into the teleconferences from any location of their choosing.

The in-person meeting on November 13-16, 2007 is open to the public and interested persons can attend the meetings and communicate their views. Members of the public will have opportunities to address the committee on issues of interest to them and the committee during public comment periods scheduled on each day of the meeting.

The meeting site for the in-person meeting is accessible to individuals with disabilities. Sign language interpreters, an assistive listening system, and real-time captioning will be provided. For the comfort of other participants, persons attending committee meetings are requested to refrain from using perfume, cologne, and other fragrances. Due to security measures at the National Science Foundation, all attendees must notify the Access Board's receptionist at (202) 272-0007 or receptionist@access-board.gov by November 5, 2007 of their intent to attend the in-person meeting. This notification is required for expeditious entry into the facility and will enable the Access Board to provide additional information as needed.

Lawrence W. Roffee,
Executive Director.

[FR Doc. E7-21554 Filed 10-31-07; 8:45 am]

BILLING CODE 8150-01-P